GENERAL SERVICES ADMINISTRATION

Notice of Intent To Prepare an Environmental Impact Statement

The United States General Services Administration intends to prepare an Environmental Impact Statement (EIS) on the following project:

U.S. Courthouse

Los Angeles, California

Proposed Action: The United States General Services Administration is planning the construction of a new U.S. Courthouse in downtown Los Angeles, California. The building will house the U.S. Courts and other Court related agencies currently located in various facilities.

Alternatives to the proposed action include:

A. Construction of new facility on the site located within downtown Los Angeles and comprised of the southwest half of the city block bounded by West Temple Street, North Spring Street, West First Street, and North Broadway.

B. Construction of a new facility on the site located within downtown Los Angeles and comprised of a full city block bounded by West First Street, South Broadway, West Second Street, and South Hill Street. This action may entail demolition of existing structures.

C. Construction of a new facility on the site located within downtown Los Angeles and comprised of a full city block bounded by West First Street, South Olive Street, West Second Street, and South Grand Avenue. This action may entail demolition of existing structures.

D. No action: Space for the U.S. Courts' functions will continue to be provided in the current facilities. The impact to the community of maintaining the status quo will be analyzed.

The public is cordially invited to participate in the scoping process, review of the draft Environmental Impact Statement, and the public meeting. The scoping meeting will be held at the Los Angeles Downtown Marriott Hotel, located at 333 South Figueroa Street, Los Angeles, California, on Thursday, August 31, 2000 from 4:30 p.m. to 7:30 p.m.

At the scoping meeting, the public will be asked to identify any significant issues that they believe should be analyzed in the Environmental Impact Statement.

Release of the draft EIS for public comment and the public meeting will be announced in the local newspaper, as these dates are established.

FOR FURTHER INFORMATION CONTACT: Javad Soltani, General Services Administration, Portfolio Management Division (9PT), 450 Golden Gate Avenue, San Francisco, California 94102, (415) 522-3493, Fax: (415) 522-3215. Email: javad.soltani@gsa.gov.

Dated: July 31, 2000.
Javad Soltani,
Asset Planner.

[FR Doc. 00-20063 Filed 8-8-00; 8:45 am]

BILLING CODE 6820-23-M